DEPARTMENT OF THE INTERIOR

Bureau of Land Management

[LLORB06000.L10200000]

Notice of Reestablishment of the Steens Mountain Advisory Council

AGENCY: Bureau of Land Management, Interior.

ACTION: Notice.

SUMMARY: This notice is published in accordance with Section 9(a)(2) of the Federal Advisory Committee Act of 1972, Public Law 92-463. Notice is hereby given that the Secretary of the Interior (Secretary) has renewed the Bureau of Land Management's Steens Mountain Advisory Council.

FOR FURTHER INFORMATION CONTACT: Allison Sandoval, Legislative Affairs and Correspondence (600), Bureau of Land Management, 1620 L Street, NW., MS-LS-401, Washington, DC 20036, telephone (202) 452-7704.

SUPPLEMENTARY INFORMATION: The purpose of the Council will be to advise the Secretary in managing and promoting cooperative management of the Steens Mountain Cooperative Management and Protection Area.

Certification Statement

I hereby certify that the renewal of the Steens Mountain Advisory Council is necessary and in the public interest in connection with the Secretary of the Interior's responsibilities to manage the lands, resources, and facilities administered by the Bureau of Land Management.

Dated: December 16, 2009.
Ken Salazar,
Secretary of the Interior.

[FR Doc. E9-30448 Filed 12-22-09; 8:45 am]

BILLING CODE 4310-33-P